FEDERAL COMMUNICATIONS COMMISSION

47 CFR Part 25

[IB Docket 99-67; RM 9165; FCC 02-134]

Petition of the National Telecommunications and Information Administration To Amend the Commission's Rules To Establish Emission Limits for Mobile and Portable Earth Stations Operating in the 1610-1660.5 MHz Band

AGENCY: Federal Communications Commission.

ACTION: Proposed rule.

SUMMARY: In this document the Commission proposes amend its rules that specifies limits on the permissible strength of out-of-band emissions from mobile earth stations with assigned uplink frequencies between 1610 MHz and 2025 MHz in order to prevent interference with use of satellite radionavigation services for airplane guidance during approach to landing. The Commission intents to add a provision in part 25 that would require emissions from mobile earth stations with assigned uplink frequencies in the 1626.5-1660.5 MHz band to be suppressed in the 1605-1610 MHz band to a level determined by linear interpolation from -70 dBW/MHz at 1605 MHz to -46 dBW/MHz at 1610 MHz after January 1, 2005. Further, the Commission intents to add a provision that would require discrete narrowband emissions in the 1605-1610 MHz band to be suppressed to a level 10 dB below the corresponding limit for wideband emissions.

DATES: Comments are due on or before December 2, 2002 and reply comments are due on or before January 2, 2003.

ADDRESSES: Federal Communications Commission, 445 12th Street, SW., Washington, DC 20554.

FOR FURTHER INFORMATION CONTACT: William Bell at (202) 418-0741 (internet: bbell@fcc.gov) or Marcus Wolf at (202) 418-0736 (internet: mwolf@fcc.gov), International Bureau, Federal Communications Commission, Washington, DC 20554.

SUPPLEMENTARY INFORMATION: This is a summary of the Commission's Further Notice of Proposed Rulemaking (FNPRM) in IB Docket No. 99-67, FCC 02-134, adopted May 2, 2002 and released on May 14, 2002. The complete text of this decision is available for inspection and copying during normal business hours in the FCC Reference Center (Room), 445 12th Street, SW., Washington, DC 20554, and also may be purchased from the Commission's copy contractor, International Transcription Service, Inc. (ITS, Inc.), 1231 20th Street, NW., Washington, DC 20036, (202) 857-3800.

Initial Paperwork Reduction Act Analysis

The Commission acknowledged that the FNPRM proposes an additional information-collection requirement and invited the general public and the Office of Management and Budget (OMB) to comment on the proposed additional information requirement, as required by the Paperwork Reduction Act of 1995. Such public comments are due within November 4, 2002. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Written comments on the proposed information collection requirement should be filed with the Commission's Secretary, and a copy should be submitted to Judy Boley Herman, Federal Communications Commission, Room 1-C804, 445 12th Street SW., Washington, DC 20554, or via the Internet to jbHerman@fcc.gov, and Jeanette Thornton, OMB Desk Officer, 10236 NEOB, 725 17th Street NW., Washington, DC 20503, or via the Internet to jthornto@mp.eop.gov.

Procedures for Filing Comments on the Further Notice of Proposed Rulemaking

Pursuant to §§ 1.415 and 1.419 of the Commission's rules, interested parties may file comments on the Further Notice of Proposed Rulemaking on or before December 2, 2002 and reply comments January 2, 2003. Comments may be filed using the Commission's Electronic Comment Filing System (“ECFS”) or by submitting paper copies. See Electronic Filing of Documents in Rulemaking Proceedings, 63 FR 24121 (1998). Comments filed through the ECFS can be sent as an electronic file via the Internet to http://www.fcc.gov/e-file/ecfs.html. Commenters must transmit one electronic copy of their comments for each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and six copies of each filing. Paper filings can be sent by hand or messenger delivery, by commercial overnight courier, or by first-class or overnight U.S. Postal Service mail (although we continue to experience delays in receiving U.S. Postal Service mail). The Commission's contractor, Vistronix, Inc., will receive hand-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Compton Drive, Capitol Heights, MD 20743. U.S. Postal Service first-class mail, Express Mail, and Priority Mail should be addressed to 445 12th Street, SW., Washington, DC 20554. All filings must be addressed to the Commission's Secretary, Office of the Secretary, Federal Communications Commission. Comments and reply comments should be captioned using the docket number for this proceeding.

Parties who choose to file by paper should also submit their comments on diskette. The diskettes should be submitted to the Commission's Secretary, Marlene H. Dortch, Office of the Secretary, Federal Communications Commission. Portals II, 445 12th Street, SW., Washington, DC. The Commission's contractor, Vistronix, Inc., will receive hand-delivered diskette filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Compton Drive, Capitol Heights, MD 20743. U.S. Postal Service first-class mail, Express Mail, and Priority Mail should be addressed to 445 12th Street, SW., Washington, DC 20554. All filings must be addressed to the Commission's Secretary, Office of the Secretary, Federal Communications Commission. Such a submission should be on a 3.5-inch diskette formatted in an IBM compatible format using Word for Windows or compatible software. The diskette should be accompanied by a cover letter and should be submitted in “read only” mode. The diskettes should be clearly labeled with the commenter's name, the docket number of this proceeding, type of pleading (comment or reply comment), date of submission, and the name of the electronic file on the diskette. The label should also include the following phrase “Disk Copy—Not an Original.” Each diskette should contain only one party's pleading, preferably in a single electronic file. In addition, commenters must send diskette copies to the Commission's copy contractor, Qualex International, Portals II, 445 12th Street, SW., Room CY-B402 Washington, DC 20554.

Comments and reply comments will be available for public inspection during regular business hours in the FCC Reference Center, 445 12th Street, SW., Washington, DC 20554.

Initial Regulatory Flexibility Analysis

As required by the Regulatory Flexibility Act of 1980, the Further Notice of Proposed Rulemaking includes an Initial Regulatory Flexibility Analysis (“IRFA”) of possible significant economic impact on “small entities” from the proposed rules changes. Members of the public may file written comments on the IRFA within the deadlines for comments on the FNPRM. The Commission requested comment on the number and identity of small entities that would be significantly impacted by the proposed rule changes and invited comment as to whether there is any alternative means of achieving its regulatory objectives that would significantly reduce burdens on small entities.

List of Subjects in 47 CFR Part 25

Satellite communications.

Federal Communications Commission.
Marlene H. Dortch,
Secretary.

Proposed Rule Changes

For the reasons discussed in the preamble, the Federal Communications Commission proposes to amend 47 CFR part 25 as follows:

PART 25—SATELLITE COMMUNICATIONS

1. The authority citation for part 25 continues to read as follows:

Authority: 47 U.S.C. 701-744. Interprets or applies Sections 4, 301, 302, 303, 307, 309 and 332 of the Communications Act, as amended, 47 U.S.C. Sections 154, 301, 302, 303, 307, 309 and 332, unless otherwise noted.

2. Section 25.216 is amended by revising paragraph (e) and by adding paragraphs (g), (h) and (i) to read as follows:

§ 25.216 Limits on emissions from mobile earth stations for protection of aeronautical radionavigation-satellite service

(e) The e.i.r.p. density of emissions from mobile earth stations with assigned uplink frequencies between 1990 MHz and 2025 MHz shall not exceed -70 dBW/MHz, averaged over 20 milliseconds, in frequencies between 1559 MHz and 1610 MHz. The e.i.r.p. of discrete emissions of less than 700 Hz bandwidth from such stations shall not exceed -80 dBW, averaged over 20 milliseconds, in that frequency band.

* * * * *

(g) Mobile earth stations placed in service after July 21, 2002 with assigned uplink frequencies in the 1626.5-1660.5 MHz band shall suppress the power density of emissions in the 1605-1610 MHz band-segment to an extent determined by linear interpolation from −70 dBW/MHz at 1605 MHz to −46 dBW/MHz at 1610 MHz. The e.i.r.p. of discrete emissions of less than 700 Hz bandwidth from such stations shall not exceed a level determined by linear interpolation from −80 dBW at 1605 MHz to −56 dBW at 1610 MHz.

(h) The peak e.i.r.p. density of carrier-off-state emissions from mobile earth stations with assigned uplink frequencies between 1 and 3 GHz shall not exceed −77 dBW/MHz in the 1559-1610 MHz band.

(i) No mobile earth station subject to the requirements of this section may be operated after January 1, 2005 unless its conformance with pertinent requirements specified in this section with respect to operation after that date has been demonstrated pursuant to the certification procedure prescribed in part 2, subpart J, of this chapter.

[FR Doc. 02-24893 Filed 10-2-02; 8:45 am]

BILLING CODE 6712-01-P